DEPARTMENT OF AGRICULTURE

Agricultural Marketing Service

7 CFR Part 1211

[Document No. AMS-FV-11-0074; PR-A2 and PR-B2]

RIN 0581-AD24

Hardwood Lumber and Hardwood Plywood Promotion, Research and Information Order; Extension of Comment Period on Supplemental Notices

AGENCY: Agricultural Marketing Service, USDA.

ACTION: Extension of comment period.

SUMMARY: Notice is hereby given that the comment period on a supplemental notice to amend the 2013 proposed rule for a Hardwood Lumber and Hardwood Plywood Promotion, Research and Information Order (Order) is extended. Under the proposed Order, assessments would be collected from hardwood lumber and plywood manufacturers and would be used to fund programs to promote hardwood lumber and plywood. The comment period is also extended for the supplemental notice to amend the 2013 proposed rule on procedures for conducting a referendum to determine whether issuance of a proposed Order is favored by manufacturers of hardwood lumber and hardwood plywood.

DATES: Comments must be received by September 7, 2015.

ADDRESSES: Interested persons are invited to submit written comments on the Internet at http://www.regulations.gov or to the Promotion and Economics Division, Fruit and Vegetable Program, AMS, USDA, 1400 Independence Avenue SW., Room 1406-S, Stop 0244, Washington, DC 20250-0244; facsimile: (202) 205-2800. All comments should reference the docket number and the date and page number of this issue of the Federal Register and will be made available for public inspection, including the name and address if provided, in the above office during regular business hours or can be viewed at http://www.regulations.gov.

FOR FURTHER INFORMATION CONTACT: Patricia A. Petrella, Marketing Specialist, Promotion and Economics Division, Fruit and Vegetable Program, AMS, USDA, 1400 Independence Avenue SW., Room 1406-S, Stop 0244, Washington, DC 20250-0244; telephone: (301) 334-2891; or facsimile: (202) 205-2800; or email: Patricia.Petrella@ams.usda.gov.

SUPPLEMENTARY INFORMATION: The proposed rules on the Order and the referendum procedures were published in the Federal Register on November 13, 2013 (78 FR 68298 and 78 FR 67979, respectively). Those rules proposed the establishment of an industry-funded promotion, research and information program for hardwood lumber and hardwood plywood and referendum procedures. Those proposals provided for a 60-day comment period which ended on January 13, 2014. On January 16, 2014, a notice was published in the Federal Register that reopened and extended the comment period on the proposed Order until February 18, 2014 (79 FR 2805). A total of 939 comments were received during both comment periods. As a result of the extensive comments received, USDA published supplemental notices of proposed rulemaking on the proposed Order and the referendum procedures in the Federal Register on June 9, 2015 (80 FR 32493 and 80 FR 32488, respectively) to amend the 2013 proposed rules.

USDA received a request to extend the comment period to allow additional time for interested persons to review the proposals and submit comments. USDA is therefore extending the comment period an additional 60 days until September 7, 2015 to provide interested persons more time to review these rules, perform a complete analysis, and submit written comments.

Authority: This notice is issued pursuant to the Commodity Promotion, Research and Information Act of 1996 (1996 Act) (7 U.S.C. 7411-7425).

Dated: June 26, 2015.
Rex A. Barnes,
Associate Administrator.

[FR Doc. 2015-16184 Filed 6-30-15; 8:45 am]

BILLING CODE 3410-02-P